OFFICE OF THE UNITED STATES TRADE REPRESENTATIVE

Trade Policy Staff Committee; Initiation of Environmental Review of Proposed United States-Thailand Free Trade Agreement Negotiations; Public Comments on Scope of Environmental Review

AGENCY: Office of the United States Trade Representative.

ACTION: Notice and request for comments.

SUMMARY: This publication gives notice that, pursuant to authority delegated by the President in Executive Order 13277 (67 FR 70305) and consistent with Executive Order 13141 (64 FR 63169) and its implementing guidelines (65 FR 79442), the Office of the United States Trade Representative (USTR), through the Trade Policy Staff Committee (TPSC), is initiating an environmental review of the proposed United States-Thailand Free Trade Agreement. The TPSC is requesting written comments from the public on what should be included in the scope of the environmental review, including the potential environmental effects that might flow from the free trade agreement and the potential implications for U.S. environmental laws and regulations, and identification of complementarities between trade and environmental objectives such as the promotion of sustainable development. The TPSC also welcomes public views on appropriate methodologies and sources of data for conducting the review. Persons submitting written comments should provide as much detail as possible on the degree to which the subject matter they propose for inclusion in the review may raise significant environmental issues in the context of the negotiation.

DATE: Public comments should be received no later than June 1, 2004.

ADDRESSES: Submissions by electronic mail: FR0423@ustr.gov.

Submissions by facsimile: Gloria Blue, Executive Secretary, Trade Policy Staff Committee, at (202) 395-6143.

FOR FURTHER INFORMATION CONTACT: For procedural questions concerning public comments, contact Gloria Blue, Executive Secretary, TPSC, Office of the USTR, 1724 F Street, NW., Washington, DC 20508, telephone (202) 395-3475. Questions concerning the environmental review should be addressed to Alice L. Mattice or David J. Brooks, Environment and Natural Resources Section, USTR, telephone (202) 395-7320.

SUPPLEMENTARY INFORMATION:

1. Background Information

On February 12, 2004, in accordance with section 2104(a)(1) of the Trade Act of 2002, the United States Trade Representative, Ambassador Robert B. Zoellick, notified Congress of the President's intent to enter into trade negotiations with Thailand. Ambassador Zoellick outlined specific U.S. objectives for these negotiations in the notification letters to Congress. Copies of the letters are available at: http://www.ustr.gov/releases/2004/02/2004-02-12-letter-thailand-senate.pdf and http://www.ustr.gov/releases/2004/02/2004-02-12-letter-thailand-house.pdf.

The TPSC invited the public (69 FR 9419) to provide written comments and/or oral testimony at a public hearing, which took place on March 30, 2004, to assist USTR in amplifying and clarifying negotiating objectives for the proposed FTA and to provide advice on how specific goods and services and other matters should be treated under the proposed agreement.

Thailand is the United States' 18th largest trading partner with $19.7 billion in total trade during 2002. The increased access to Thailand's market provided by an FTA would further boost trade in a wider range of both goods and services, enhancing employment opportunities in both countries. An FTA would encourage greater liberalization of foreign investment and build upon the preferential access already afforded U.S. companies under the U.S.-Thailand Treaty of Amity and Economic Relations. In these FTA negotiations, the United States will seek to address market access barriers faced by U.S. companies and service providers. The United States also will seek provisions on transparency, labor and environment.

2. Environmental Review

USTR, through the TPSC, will perform an environmental review of the agreement pursuant to the authority delegated by the President in Executive Orders 13277 (67 FR 70305) and 13141 (64 FR 63169) and its implementing guidelines (65 FR 79442).

Environmental reviews are used to identify potentially significant, reasonably foreseeable environmental impacts (both positive and negative), and information from the review can help facilitate consideration of appropriate responses where impacts are identified. Reviews address potential environmental impacts of the proposed agreement and potential implications for environmental laws and regulations. The focus of the review is on impacts in the United States, although global and transboundary impacts may be considered, where appropriate and prudent.

3. Requirements for Submissions

In order to facilitate prompt processing of submissions, USTR strongly urges and prefers electronic (e-mail) submissions in response to this notice.

Persons making submissions by e-mail should use the following subject line: “United States-Thailand FTA Environmental Review” followed by “Written Comments.” Documents should be submitted as either WordPerfect, MSWord, or text (.TXT) files. Supporting documentation submitted as spreadsheets are acceptable as Quattro Pro or Excel. For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. To the extent possible, any attachments to the submission should be included in the same file as the submission itself, and not as separate files.

Written comments submitted in response to this request will be placed in a file open to public inspection pursuant to 15 CFR 2003.5, except business confidential information exempt from public inspection in accordance with 15 CFR 2003.6. Business confidential information submitted in accordance with 15 CFR 2003.6 must be clearly marked “BUSINESS CONFIDENTIAL” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file must be scheduled at least 48 hours in advance and may be made by calling (202) 395-6186.

USTR also welcomes and will take into account the public comments on Thailand FTA environmental issues submitted in response to a previous notice—the Federal Register notice dated February 27, 2004 (69 FR 9419), requesting comments from the public to assist USTR in formulating positions and proposals with respect to all aspects of the negotiations, including environmental issues. These comments will also be made available for public inspection.

General information concerning the Office of the United States Trade Representative may be obtained by accessing its Internet Web site (www.ustr.gov).

Carmen Suro-Bredie,
Chair, Trade Policy Staff Committee.

[FR Doc. 04-8240 Filed 4-9-04; 8:45 am]

BILLING CODE 3190-W3-P